DEPARTMENT OF ENERGY

Federal Energy Regulatory Commission

Combined Notice of Filings #1

Take notice that the Commission received the following exempt wholesale generator filings:

Docket Numbers: EG23-197-000.

Applicants: SR DeSoto II, LLC.

Description: SR DeSoto II, LLC submits Notice of Self-Certification of Exempt Wholesale Generator Status.

Filed Date: 6/16/23.

Accession Number: 20230616-5187.

Comment Date: 5 p.m. ET 7/7/23.

Docket Numbers: EG23-198-000.

Applicants: SR DeSoto III, LLC.

Description: SR DeSoto III, LLC submits Notice of Self-Certification of Exempt Wholesale Generator Status.

Filed Date: 6/16/23.

Accession Number: 20230616-5189.

Comment Date: 5 p.m. ET 7/7/23.

Docket Numbers: EG23-199-000.

Applicants: SR DeSoto III Lessee, LLC.

Description: SR DeSoto III Lessee, LLC submits Notice of Self-Certification of Exempt Wholesale Generator Status.

Filed Date: 6/16/23.

Accession Number: 20230616-5190.

Comment Date: 5 p.m. ET 7/7/23.

Docket Numbers: EG23-200-000.

Applicants: SR Canadaville, LLC.

Description: SR Canadaville, LLC submits Notice of Self-Certification of Exempt Wholesale Generator Status.

Filed Date: 6/16/23.

Accession Number: 20230616-5193.

Comment Date: 5 p.m. ET 7/7/23.

Docket Numbers: EG23-201-000.

Applicants: SR Canadaville Lessee, LLC.

Description: SR Canadaville Lessee, LLC submits Notice of Self-Certification of Exempt Wholesale Generator Status.

Filed Date: 6/16/23.

Accession Number: 20230616-5194.

Comment Date: 5 p.m. ET 7/7/23,

Docket Numbers: EG23-202-000.

Applicants: SR Lambert I, LLC.

Description: SR Lambert I, LLC submits Notice of Self-Certification of Exempt Wholesale Generator Status.

Filed Date: 6/16/23.

Accession Number: 20230616-5196.

Comment Date: 5 p.m. ET 7/7/23.

Docket Numbers: EG23-203-000.

Applicants: SR Lambert II, LLC.

Description: SR Lambert II, LLC submits Notice of Self-Certification of Exempt Wholesale Generator Status.

Filed Date: 6/16/23.

Accession Number: 20230616-5197.

Comment Date: 5 p.m. ET 7/7/23.

Take notice that the Commission received the following electric rate filings:

Docket Numbers: ER22-615-001.

Applicants: Prairie State Solar, LLC.

Description: Midcontinent Independent System Operator, Inc. submits tariff filing per 35.19a(b): Refund Report__Prairie State Solar, LLC to be effective N/A.

Filed Date: 6/16/23.

Accession Number: 20230616-5206.

Comment Date: 5 p.m. ET 7/7/23.

Docket Numbers: ER22-1815-001.

Applicants: Midcontinent Independent System Operator, Inc.

Description: Midcontinent Independent System Operator, Inc. submits tariff filing per 35.19a(b): Refund Report__Mulligan Solar, LLC to be effective N/A.

Filed Date: 6/16/23.

Accession Number: 20230616-5204.

Comment Date: 5 p.m. ET 7/7/23.

Docket Numbers: ER22-1980-001.

Applicants: Deuel Harvest Wind Energy LLC.

Description: Midcontinent Independent System Operator, Inc. submits tariff filing per 35.19a(b): Refund Report__Deuel Harvest Wind Energy LLC to be effective N/A.

Filed Date: 6/16/23.

Accession Number: 20230616-5205.

Comment Date: 5 p.m. ET 7/7/23.

Docket Numbers: ER22-2350-001.

Applicants: New York Independent System Operator, Inc.

Description: Compliance filing: NYISO Compliance Filing to FERC April 2023 Order on Compliance re: Order No. 881 to be effective 12/31/9998.

Filed Date: 6/20/23.

Accession Number: 20230620-5175.

Comment Date: 5 p.m. ET 7/11/23.

Docket Numbers: ER23-1773-002.

Applicants: Pomona Energy Storage 2 LLC.

Description: Tariff Amendment: Second Amendment to be effective 6/25/2023.

Filed Date: 6/20/23.

Accession Number: 20230620-5150.

Comment Date: 5 p.m. ET 7/11/23.

Docket Numbers: ER23-2171-000.

Applicants: Tri-State Generation and Transmission Association, Inc.

Description: § 205(d) Rate Filing: Formula Rate Filing to be effective 1/1/2024.

Filed Date: 6/16/23.

Accession Number: 20230616-5173.

Comment Date: 5 p.m. ET 7/7/23.

Docket Numbers: ER23-2172-000.

Applicants: Innovative Energy Systems, LLC.

Description: Compliance filing: Innovative Energy Systems MBR Change in Category to be effective 6/20/2023.

Filed Date: 6/16/23.

Accession Number: 20230616-5178.

Comment Date: 5 p.m. ET 7/7/23.

Docket Numbers: ER23-2173-000.

Applicants: PJM Interconnection, L.L.C.

Description: § 205(d) Rate Filing: Original ISA, Service Agreement No. 6956; Queue No. AE2-181 to be effective 5/23/2023.

Filed Date: 6/20/23.

Accession Number: 20230620-5040.

Comment Date: 5 p.m. ET 7/11/23.

Docket Numbers: ER23-2174-000.

Applicants: DC Energy California, LLC.

Description: Tariff Amendment: Notice of Cancellation of FERC Electric Tariff, Volume No. 1 to be effective 6/21/2023.

Filed Date: 6/20/23.

Accession Number: 20230620-5041.

Comment Date: 5 p.m. ET 7/11/23.

Docket Numbers: ER23-2175-000.

Applicants: DC Energy Dakota, LLC.

Description: Tariff Amendment: Notice of Cancellation of FERC Electric Tariff, Volume No. 1 to be effective 6/21/2023.

Filed Date: 6/20/23.

Accession Number: 20230620-5043.

Comment Date: 5 p.m. ET 7/11/23.

Docket Numbers: ER23-2176-000.

Applicants: DC Energy Mid-Atlantic, LLC.

Description: Tariff Amendment: Notice of Cancellation of FERC Electric Tariff, Volume No. 1 to be effective 6/21/2023.

Filed Date: 6/20/23.

Accession Number: 20230620-5046.

Comment Date: 5 p.m. ET 7/11/23.

Docket Numbers: ER23-2177-000.

Applicants: DC Energy Midwest, LLC.

Description: Tariff Amendment: Notice of Cancellation of FERC Electric Tariff, Volume No. 1 to be effective 6/21/2023.

Filed Date: 6/20/23.

Accession Number: 20230620-5048.

Comment Date: 5 p.m. ET 7/11/23.

Docket Numbers: ER23-2178-000.

Applicants: DC Energy New England, LLC.

Description: Tariff Amendment: Notice of Cancellation of FERC Electric Tariff, Volume No. 1 to be effective 6/21/2023.

Filed Date: 6/20/23.

Accession Number: 20230620-5051.

Comment Date: 5 p.m. ET 7/11/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: June 20, 2023.
Debbie-Anne A. Reese,
Deputy Secretary.

[FR Doc. 2023-13488 Filed 6-23-23; 8:45 am]

BILLING CODE 6717-01-P